NATIONAL AERONAUTICS AND SPACE ADMINISTRATION

[Notice 03-044]

NASA Aerospace Technology Advisory Committee, Revolutionize Aviation Subcommittee; Meeting

AGENCY: National Aeronautics and Space Administration (NASA).

ACTION: Notice of meeting.

SUMMARY: The National Aeronautics and Space Administration announces a forthcoming meeting of the Aerospace Technology Advisory Committee (ATAC), Revolutionize Aviation Subcommittee (RAS).

DATES: Tuesday May 20, 2003, 8 a.m. to 4:30 p.m.

ADDRESSES: National Aeronautics and Space Administration, Room 6H46, 300 E Street, SW., Washington, DC 20546.

FOR FURTHER INFORMATION CONTACT: Ms. Bernice E. Lynch, Office of Aerospace Technology, National Aeronautics and Space Administration, Washington, DC 20546-0001, (202) 358-4594.

SUPPLEMENTARY INFORMATION: The meeting will be open to the public up to the seating capacity of the room. The agenda for the meeting is as follows:

—Welcome Remarks from Chair;

—Review Actions from Last Meeting;

—NASA Response to Working Group Findings & Recommendations;

—Aeronautics Technology Initiatives for FY 2005;

—Top-Down Planning & Architecture;

—Aviation Safety Reporting System Update;

—Next Steps/Action Summary.

Attendees will be requested to sign a register and to comply with NASA security requirements, including the presentation of a valid picture ID, before receiving an access badge. Foreign nationals attending this meeting will be required to provide the following information: Full name; gender; date/place of birth; citizenship; visa/green card information (number, type, expiration date); passport information (number, country, expiration date); employer/affiliation information (name of institution, address, country, phone); title/position of attendee. To expedite admittance, attendees can provide identifying information in advance by contacting Bernice E. Lynch via e-mail at Bernice.E.Lynch@nasa.gov or by telephone at (202) 358-4594. Attendees will be escorted at all times.

It is imperative that the meeting be held on these dates to accommodate the scheduling priorities of the key participants.

June W. Edwards,
Advisory Committee Management Officer, National Aeronautics and Space Administration.

[FR Doc. 03-10200 Filed 4-24-03; 8:45 am]

BILLING CODE 7510-01-P